DEPARTMENT OF ENERGY

Federal Energy Regulatory Commission

[Docket No. RP03-408-001]

KeySpan LNG, LP; Notice of Compliance Filing

August 6, 2003.

Take notice that on August 1, 2003, KeySpan LNG, LP (KLNG) tendered for filing as part of its FERC Gas Tariff, Third Revised Volume No. 1, Sub Original Sheet No. 93A, to be effective July 1, 2003.

KLNG states that it makes this filing pursuant to a letter order issued by the Commission in Docket No. RP03-408-000 on June 30, 2003. The June 30 Order conditionally accepted KLNG's initial compliance filing pursuant to Order No. 587-R, subject to KLNG's meeting the conditions detailed in the June 30 Order. Kling states that the revised tariff sheet reflects the modifications required by the June 30 Order.

KLNG states that copies of its filing have been mailed to all affected customers and interested state commissions.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: August 13, 2003.

Linda Mitry,
Acting Secretary.

[FR Doc. 03-20604 Filed 8-12-03; 8:45 am]

BILLING CODE 6717-01-P